DEPARTMENT OF THE INTERIOR

National Park Service

[NPS-WASO-NAGPRA-22455; PPWOCRADN0-PCU00RP14.R50000]

Notice of Inventory Completion: Indiana University, Bloomington, IN

AGENCY: National Park Service, Interior.

ACTION: Notice.

SUMMARY: The Department of Anthropology at Indiana University has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Indiana University NAGPRA Office. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Indiana University NAGPRA Office at the address in this notice by January 3, 2017.

ADDRESSES: Dr. Jayne-Leigh Thomas, NAGPRA Director, Indiana University, NAGPRA Office, Student Building 318, 701 E. Kirkwood Avenue, Bloomington, IN 47405, telephone (812) 856-5315, email thomajay@indiana.edu.

SUPPLEMENTARY INFORMATION: Notice is here given in accordance with the Native American Graves Protection and Repatriation Act (NAGPRA), 25 U.S.C. 3003, of the completion of an inventory of human remains and associated funerary objects under the control of the Department of Anthropology at Indiana University, Bloomington, IN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Indiana University professional staff in consultation with representatives of the Three Affiliated Tribes of the Fort Berthold Reservation, North Dakota.

History and Description of the Remains

In 1887, the Devil's Lake site in Ramsey County, ND, was excavated by Henry Montgomery. Human remains, representing a minimum of 24 individuals, were recovered from this site. No known individuals were identified. No associated funerary objects are present.

In 1948, G.W. Hewes excavated the Baldhill site in Barnes County, ND. Human remains, representing a minimum of 72 individuals, were recovered from this site. No known individuals were identified. The 67 associated funerary objects are 1 rodent skull, 1 radius from a rodent, 1 rib from a young deer, 1 tibia/fibula possibly from a rabbit, 9 cranial fragments and 1 part of a mandible of a large mammal, 8 cranial fragments and 1 part of a mandible of a large mammal, 1 piece of unidentified bone from a large mammal, 1 auditory bulla from a medium-sized mammal, 1 talus from a medium-sized mammal, 2 pieces of worked stone, 1 chert flake, 1 bifacial flake, 3 pieces of some kind of pigmented material, 1 phalange from an ungulate, possibly bison or elk, 1 single incisor, probably from an elk, 8 pieces of ribs from a large mammal, 5 caudal vertebrae—tail—from a dog-sized animal, 1 large molar, 2 tarsals from a large mammal, 2 vertebral fragments from a large mammal, 1 piece of unidentified bone from a large mammal, 1 piece of scapula, 1 metatarsal or metacarpal and 1 piece of a humerus from a dog-sized mammal, 4 amphibian bones, 3 bird bones, 1 half of a mandible from either skunk or a mink, 1 calcaneus from either a skunk or a mink, and 1 humerus from large dog or wolf.

On an unknown date, Alfred W. Bowers excavated the Greenshield site in Oliver County, ND. The collection was sent to Faye Cooper Cole at the University of Chicago in 1993. From 1950-1952, the collection was transferred to Indiana University. Human remains, representing a minimum of 34 individuals, were recovered. No known individuals were identified. The 2 associated funerary objects are rodent bones.

On an unknown date, Alfred W. Bowers excavated the Larson site in Oliver County, ND. The collection was sent to Faye Cooper Cole at the University of Chicago in 1993. From 1950-1952, the collection was transferred to Indiana University. Human remains, representing 7 individuals, were recovered. No known individuals were identified. There are no associated funerary objects.

On an unknown date, Alfred W. Bowers excavated the Motsiff site in Morton County, ND. The collection was sent to Faye Cooper Cole at the University of Chicago in 1993. From 1950-1952, the collection was transferred to Indiana University. Human remains, representing 2 individuals, were recovered. No known individuals were identified. There are no associated funerary objects.

On an unknown date, Alfred W. Bowers excavated the Sanger Mound site in Oliver County, ND. The collection was sent to Faye Cooper Cole at the University of Chicago in 1993. From 1950-1952, the collection was transferred to Indiana University. Human remains, representing 5 individuals, were recovered. No known individuals were identified. There are no associated funerary objects.

On an unknown date, Alfred W. Bowers excavated site Ar34 in an unknown County, ND. The collection was sent to Faye Cooper Cole at the University of Chicago in 1993. From 1950-1952, the collection was transferred to Indiana University. Human remains, representing 11 individuals, were recovered. No known individuals were identified. There are 16 associated funerary objects: 1 shell, 1 stone tool, 1 sherd, 1 piece of sandstone, and 12 pieces of chert.

Notes indicate that Sanger Mound, Greenshield, Larson, and Motsiff are culturally affiliated with the Mandan and Arikara tribes. Notes associated with site Ar34 indicate either Arikara or Mandan individuals, likely from Fort Abraham Lincoln. The Mandan had a large village located at the site of Fort Abraham Lincoln. The Baldhill and Devil's Lake sites are likely dated to the Extended Middle Missouri variant (1000-1500 AD). Archeological, geographical, and ethnographic evidence indicates that this period is ancestral to the Mandan. Today, the Arikara, Hidatsa, and Mandan tribes are a part of the Three Affiliated Tribes of the Fort Berthold Reservation, North Dakota.

Determinations Made by the Indiana University

Officials of Indiana University have determined that:

• Pursuant to 25 U.S.C. 3001(9), the human remains described in this notice represent the physical remains of 155 individuals of Native American ancestry.

• Pursuant to 25 U.S.C. 3001(3)(A), the 85 objects described in this notice are reasonably believed to have been placed with or near individual human remains at the time of death or later as part of the death rite or ceremony.

• Pursuant to 25 U.S.C. 3001(2), there is a relationship of shared group identity that can be reasonably traced between the Native American human remains and associated funerary objects and the Three Affiliated Tribes of the Fort Berthold Reservation, North Dakota.

Additional Requestors and Disposition

Lineal descendants or representatives of any Indian tribe or Native Hawaiian organization not identified in this notice that wish to request transfer of control of these human remains and associated funerary objects should submit a written request with information in support of the request to Dr. Jayne-Leigh Thomas, NAGPRA Director, Indiana University, NAGPRA Office, Student Building 318, 701 E. Kirkwood Avenue, Bloomington, IN 47405, telephone (812) 856-5315, email thomajay@indiana.edu, by January 3, 2017. After that date, if no additional requestors have come forward, transfer of control of the human remains and associated funerary objects to the Three Affiliated Tribes of the Fort Berthold Reservation, North Dakota.

Indiana University is responsible for notifying the Three Affiliated Tribes of the Fort Berthold Reservation, North Dakota.

Dated: November 18, 2016.
Melanie O'Brien,
Manager, National NAGPRA Program.

[FR Doc. 2016-28954 Filed 12-1-16; 8:45 am]

BILLING CODE 4312-52-P